DEPARTMENT OF THE INTERIOR

National Park Service

[NPS-IMR-GRTE-21184; PX.PD202594I.00.1]

Moose-Wilson Corridor Comprehensive Management Plan, Final Environmental Impact Statement, Grand Teton National Park, Wyoming

AGENCY: National Park Service, Interior.

ACTION: Notice of availability.

SUMMARY: The National Park Service announces the availability of the Final Environmental Impact Statement (FEIS) for the Moose-Wilson Corridor Comprehensive Management Plan, Grand Teton National Park, Wyoming. The FEIS analyzes four alternatives for future management of the corridor. Alternative C has been identified as the NPS preferred alternative.

DATES: The National Park Service will execute a Record of Decision (ROD) no sooner than 30 days following publication by the Environmental Protection Agency of the Notice of Availability of the Final Environmental Impact Statement.

ADDRESSES: The FEIS is available to the public online at http://parkplanning.nps.gov/MooseWilson, and at the Grand Teton National Park Headquarters Building, 1 Teton Park Road, Moose, Wyoming, and at the Reference Desk of the Teton County Library, 125 Virginian Lane, Jackson, Wyoming.

FOR FURTHER INFORMATION CONTACT: David Vela, Superintendent, Grand Teton National Park, P.O. Drawer 170, Moose, Wyoming 83012-0170, (307) 739-3411, GRTE_Superintendent@nps.gov, or Daniel Noon, Chief of Planning and Environmental Compliance, P.O. Drawer 170, Moose, Wyoming 83012-0170, (307) 739-3465, Daniel_Noon@nps.gov

SUPPLEMENTARY INFORMATION: In recent years, the Moose-Wilson corridor in Grand Teton National Park has experienced changes in ecological conditions, development patterns, and use by visitors and local residents. As a result, the National Park Service is conducting a comprehensive planning and environmental impact process to determine how best to protect park resources and values while providing appropriate opportunities for visitor use, experience, and enjoyment of the corridor. The final plan: (1) Identifies management strategies to address natural and cultural resource protection; (2) identifies management strategies to address visitor safety concerns and conflicts with wildlife; (3) addresses vehicle/bicycle management related to road use, trailhead parking areas and pullouts; (4) identifies management strategies related to the operation of facilities within the corridor; (5) considers if a multi-use pathway should be provided along Moose-Wilson Road; and (6) examines specific road realignment and paving options for the Moose-Wilson and Death Canyon Roads.

Four management alternatives, Alternatives A through D, are analyzed in the FEIS. Alternative A, the no-action alternative, would continue current management practices related to resources, visitor use, park operations, and maintenance of facilities within the Moose-Wilson corridor. Alternatives B through D address increases in traffic and volume-related congestion on the Moose-Wilson Road during peak use periods by either restricting its use as a through-travel route or limiting the number of vehicles entering the corridor at any one time.

Alternative B emphasizes managing the corridor as a visitor destination. Reduced crowding on Moose-Wilson Road and at destinations within the corridor would provide visitors an opportunity for self-discovery. This would be accomplished by restricting through-traffic in either direction during peak use periods through the management of a gate system on Moose-Wilson Road within the Laurance S. Rockefeller Preserve. Existing developed areas and facilities would be maintained where appropriate and removed or relocated in some areas to protect natural and cultural resources.

Alternative C, the NPS preferred alternative, emphasizes the conservation legacy stories within the corridor. The intensity and timing of visitor use would be managed to effectively provide high quality visitor opportunities by reducing high traffic volumes and congestion. This would be accomplished using time sequencing techniques and the establishment of vehicle queuing lanes on the north and south ends of the corridor during peak visitation periods. Development within the corridor would generally be maintained within the existing development footprint.

Alternative D would enhance recreational opportunities with additional amenities, including the construction of a separated multi-use pathway parallel to Moose-Wilson Road. This alternative would integrate the Moose-Wilson corridor with the region's larger recreational network, and would enhance the recreational scenic driving experience by reducing high traffic volumes and congestion by establishing a reservation system during peak use periods.

Before including your address, phone number, email address, or other personal identifying information in your comment, you should be aware that your entire comment—including your personal identifying information—may be made publicly available at any time. While you can ask us in your comment to withhold your personal identifying information from public review, we cannot guarantee that we will be able to do so.

Authority: The authority for publishing this notice is contained in 40 CFR 1506.6.

Dated: July 13, 2016.
Sue E. Masica,
Regional Director, Intermountain Region, National Park Service.

[FR Doc. 2016-21184 Filed 9-1-16; 8:45 am]

BILLING CODE 4312-CB-P